DEPARTMENT OF HOMELAND SECURITY

Coast Guard

[Docket No. USCG-2008-1229]

Chemical Transportation Advisory Committee

AGENCY: Coast Guard, DHS.

ACTION: Notice seeking public comments on MARPOL Reception Facilities.

SUMMARY: The Chemical Transportation Advisory Committee (CTAC), through its Working Group on the International Convention for the Prevention of Pollution from Ships (MARPOL) Annex, has been tasked with providing comment and recommendations to the U.S. Coast Guard for optimizing domestic MARPOL port reception facilities. CTAC is a committee formed under the authority of the Federal Advisory Committee Act (FACA), 5 U.S.C. App. (Pub. L. 92-463). To assist and complement CTAC's efforts, the Coast Guard is hereby seeking comments from the public on MARPOL reception facilities in the U.S. The Coast Guard is specifically interested in identifying all issues that negatively impact MARPOL implementing regulations for port reception facilities; and recommendations to address those issues.

CTAC Tasking: The original Task Statement that was provided to CTAC at the April 24, 2008 meeting in Washington, DC, included the following:

1. Provide comments and recommendations as necessary on: (To be completed by the Spring of 2009)

• Impact, if any, on MARPOL compliance caused by a variance in disposal costs;

• Impact, if any, on MARPOL compliance caused by vessels having to shift berths to complete transfers;

• Plan to document MARPOL reception facility services required and received through an advanced notice of arrival and departure report;

• Disposal of residues at other than those facilities receiving the cargo related to those residues. Vessels currently have limited information on availability of Annex I and Annex II facilities at subsequent ports of call;

• Level of consistency in disposal procedures in fulfillment of federal, state and local MARPOL waste disposal requirements as well as operational variances among facilities. For example, in fulfillment of state requirements, some facilities may request pre-identification of constituents in Annex I as well as Annex II residues. Additionally, facilities themselves have differing disposal procedures; and,

• Feasibility of simultaneous MARPOL and cargo transfers at every facility. According to vessel operators, some facilities prohibit simultaneous discharge of MARPOL residues and cargo transfers thereby causing delays.

2. Provide a final report in items listed above, a recommended way-ahead to implement any recommendations (e.g., proposed changes to MARPOL and/or domestic regulations) and the corresponding implementing language. (To be completed by the fall of 2009)

Seeking Public Comment: Possible areas of concern for stakeholders may include:

• Conflicts with other regulations;

• Disposal cost issues at ports/terminals;

• Requirement for lab analysis of Annex I or II wastes;

• Segregation of Annex V wastes; and

• Additional burden, if any, of adopting standardized Advance Notice Forms (ANF) and/or Waste Delivery Receipt (WDR) forms adopted by the International Maritime Organization.

Public comments that are received will assist and complement CTAC's efforts. CTAC's MARPOL Annex working group is scheduled to meet in February 2009. Comments must be received by January 31, 2009 in order to be considered.

ADDRESSES: The public may address comments via USPS, e-mail or FAX, to Mr. James Prazak, CTAC Chairman, C/O The Dow Chemical Company, 2301 N. Brazosport Blvd., B-122, Freeport, TX 77541-3257. FAX (979) 238-9737, E-mail: jprazak@dow.com. The Coast Guard requests that copies of comments be sent HQ, U.S. Coast Guard, CG-5442, ATTN: Commander Michael Roldan, 2100 Second Street, SW., Washington, DC 20593-0001. Fax: 202-372-1906, E-mail: luis.m.roldan@uscg.mil.

FOR FURTHER INFORMATION CONTACT: Commander Michael Roldan, telephone 202-372-1130, e-mail: luis.m.roldan@uscg.mil, or David Condino, MARPOL COA Project Manager, telephone 202-372-1145, e-mail: david.a.condino@uscg.mil.

SUPPLEMENTARY INFORMATION: Notice seeking public comment is given under the Federal Advisory Committee Act, 5 U.S.C. App. (Pub. L. 92-463).

Public Meeting: A separate Notice will be given regarding the next CTAC meeting at which time the Coast Guard will seek to discuss such public comments and the recommendations of CTAC. This will be a public meeting and instructions will be provided for those wishing to make oral presentations at the meeting and/or wishing to provide written comments.

Dated: December 19, 2008.
J. Lantz,
Director of Commercial Regulations and Standards.

[FR Doc. E8-30805 Filed 12-24-08; 8:45 am]

BILLING CODE 4910-15-P